DEPARTMENT OF THE INTERIOR

National Park Service

[NPS-WASO-NAGPRA-NPS0035341; PPWOCRADN0-PCU00RP14.R50000]

Notice of Inventory Completion: Seminole Tribe of Florida, Clewiston, FL

AGENCY: National Park Service, Interior.

ACTION: Notice.

SUMMARY: In accordance with the Native American Graves Protection and Repatriation Act (NAGPRA), the Seminole Tribe of Florida has completed an inventory of human remains and has determined that there is a cultural affiliation between the human remains and Indian Tribes or Native Hawaiian organizations in this notice. The human remains were removed from an unknown location within the state of Florida.

DATES: Repatriation of the human remains in this notice may occur on or after March 17, 2023.

ADDRESSES: Dr. Paul Backhouse, Tribal Historic Preservation Office, Seminole Tribe of Florida, 30290 Josie Billie Highway, PMB 1004, Clewiston, FL 33440, telephone (863) 983-6549 Ext. 12244, email Paulbackhouse@semtribe.com.

SUPPLEMENTARY INFORMATION: This notice is published as part of the National Park Service's administrative responsibilities under NAGPRA. The determinations in this notice are the sole responsibility of the Seminole Tribe of Florida. The National Park Service is not responsible for the determinations in this notice. Additional information on the determinations in this notice, including the results of consultation, can be found in the inventory or related records held by the Seminole Tribe of Florida.

Description

Human remains representing, at minimum, two individuals were removed from an unknown county in Florida. On October 1, 2018, the human remains were anonymously mailed to the Seminole Tribe of Florida Tribal Historic Preservation Office (THPO), where they were immediately transferred to the Seminole Police Department. Due to the apparent age of the human remains, soil staining, taphonomic damage, dental wear, and a note accompanying the human remains stating they had been removed from a Florida archeological site, the human remains were determined to be those of Native American individuals. No known individuals were identified. No associated funerary objects are present.

Cultural affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological, biological, geographical, and historical.

Determinations

Pursuant to NAGPRA and its implementing regulations, and after consultation with the appropriate Indian Tribes and Native Hawaiian organizations, the Seminole Tribe of Florida has determined that:

• The human remains described in this notice represent the physical remains of two individuals of Native American ancestry.

• There is a relationship of shared group identity that can be reasonably traced between the human remains and associated funerary objects described in this notice and the Miccosukee Tribe of Indians; Seminole Tribe of Florida; and The Seminole Nation of Oklahoma.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 17, 2023. If competing requests for repatriation are received, the Seminole Tribe of Florida must determine the most appropriate requestor prior to repatriation. Requests for joint repatriation of the human remains are considered a single request and not competing requests. The Seminole Tribe of Florida is responsible for sending a copy of this notice to the Indian Tribes identified in this notice.

Authority: Native American Graves Protection and Repatriation Act, 25 U.S.C. 3003, and the implementing regulations, 43 CFR 10.9, § 10.10, and § 10.14.

Dated: February 8, 2023.
Melanie O'Brien,
Manager, National NAGPRA Program.

[FR Doc. 2023-03239 Filed 2-14-23; 8:45 am]

BILLING CODE 4312-52-P